DEPARTMENT OF ENERGY

Federal Energy Regulatory Commission

[Project No. 9951-057]

STS Hydropower, LLC, Charter Township of Van Buren, Michigan; Notice of Application Tendered for Filing With the Commission and Establishing Procedural Schedule for Licensing and Deadline for Submission of Final Amendments

Take notice that the following hydroelectric application has been filed with the Commission and is available for public inspection.

a. Type of Application: New Major License.

b. Project No.: 9951.

c. Date Filed: April 29, 2025.

d. Applicant: STS Hydropower, LLC and the Charter Township of Van Buren, Michigan (applicants).

e. Name of Project: French Landing Hydroelectric Project.

f. Location: On the Huron River in Wayne County, Michigan.

g. Filed Pursuant to: Federal Power Act, 16 U.S.C. 791(a)-825(r).

h. Applicant Contact: Melissa Rondou, Director, Licensing and Compliance, STS Hydropower, LLC, 116 N. State Street, P.O. Box 167, Neshkoro, WI 54960; telephone at (920) 293-4628, ext. 347; email at melissa.rondou@eaglecreekre.com.

i. FERC Contact: Rebecca Brodeur, Project Coordinator, Great Lakes Branch, Division of Hydropower Licensing; telephone at (202) 502-8392; email at rebecca.brodeur@ferc.gov.

j. The application is not ready for environmental analysis at this time.

k. Project Description: The existing French Landing Project consists of a dam that includes the following sections: (1) a 270-foot-long east embankment; (2) a 33.2-foot-long east section with a 22.2-foot-long Tainter gate with a sill elevation of 640 feet National Geodetic Vertical Datum of 1929 (NGVD29); (3) a 14.3-foot-long east pier; (4) a 50.5-foot-long, 68-foot-wide powerhouse integral with the dam that includes three intake openings and trashracks with 2-inch clear bar spacing; and (b) a 1,800 kilowatt (kW) vertical Francis turbine-generator unit; (5) a 14.3-foot-long right pier; (6) a 33.2-foot-long west section with a 22.2-foot-long Tainter gate with a sill elevation of 640 feet and a 2.5-foot-diameter steel plunger; (7) a 12-foot-long section with two 2-foot-long slide gates; (8) a 181.1-foot-long spillway with a crest elevation of 652 feet National Geodetic Vertical Datum of 1929 (NGVD29); and (9) a 515-foot-long west embankment that includes an 18-foot-long stoplog gate. The dam creates an impoundment (Belleville Lake) that has a surface area of 1,270 acres at a normal maximum surface elevation of 651.5 feet NGVD29.

From the impoundment, water flows through the powerhouse to a 108-foot-long outlet channel that includes a weir approximately 95 feet downstream of the powerhouse. The project also includes a 213-foot-long retaining wall lined with sheet piling on the east riverbank downstream of the tailrace and a 255-foot-long retaining wall lined with sheet piling on the west riverbank downstream of the tailrace.

The generators are connected to the regional electric grid by a 4.16-kilovolt (kV) generator lead line, 525-foot-long 4.16-kV transmission line, 4.16/41.6-kV step-up transformer, and 50-foot-long transmission line.

Project recreation facilities include: (1) French Landing Park with a hand-carry boat impoundment access site on the northern shoreline of the impoundment, pavilion with picnic tables, two paved parking areas that can accommodate a total of 19 vehicles, boardwalk with a fishing platform, and restroom; (2) an approximately 1,150 foot-long portage route that extends from an impoundment take-out site on the southern shoreline of the impoundment to a put-in site on the southern bank of the Huron River; and (3) a tailrace fishing access site immediately downstream of the powerhouse on the southern bank of the tailrace.

The current license requires the licensee to operate the project in a run-of-river mode, such that outflow from the project approximates inflow. The minimum and maximum hydraulic capacities of the powerhouse are 255 and 880 cfs, respectively. The average annual generation of the project was 6,919 megawatt-hours from 2011 to 2024. The current license also requires environmental measures for water quality, fish, and cultural resources.

The applicants propose to modify the current project boundary as follows, which would decrease the acreage enclosed by the project boundary from 1,327 to 1,279.9 acres: (1) revise the project boundary around the impoundment to follow a contour elevation of 652 feet NGVD29, instead of 655 feet NGVD29 under the current license, which would remove a net total of 48.8 acres from the project boundary; (2) add 2.4 acres of land underlying project recreation facilities; (3) add 0.5 acre of land associated with the right embankment; and (4) remove 1.2 acres of land associated with a non-project substation.

The applicants propose to: (1) continue operating the project in a run-of-river mode; (2) develop an operation compliance monitoring plan, invasive species management plan, and recreation management plan; (3) continue to maintain the project recreation facilities; and (4) enhance the portage route trail and stairs to the put-in site.

l. In addition to publishing the full text of this notice in the Federal Register, the Commission provides all interested persons an opportunity to view and/or print the contents of this notice, as well as other documents in the proceeding (e.g., license application) via the internet through the Commission's Home Page (https://www.ferc.gov) using the “eLibrary” link. Enter the docket number excluding the last three digits in the docket number field to access the document (P-9951). For assistance, contact FERC at FERCOnlineSupport@ferc.gov, (866) 208-3676 (toll free), or (202) 502-8659 (TTY).

m. You may also register online at https://ferconline.ferc.gov/FERCOnline.aspx to be notified via email of new filings and issuances related to this or other pending projects. For assistance, contact FERC Online Support.

n. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

o. Procedural Schedule: The application will be processed according to the following preliminary schedule. Revisions to the schedule will be made as appropriate.

Issue Deficiency Letter and Request Additional Information—May 2025

Request Additional Information (if necessary)—September 2025

Issue Notice of Application Accepted for Filing—November 2025

Issue Notice of Ready for Environmental Analysis—November 2025

p. Final amendments to the application must be filed with the Commission no later than 30 days from the issuance date of the notice of ready for environmental analysis.

Dated: May 13, 2025.
Debbie-Anne A. Reese,
Secretary.

[FR Doc. 2025-09202 Filed 5-21-25; 8:45 am]

BILLING CODE 6717-01-P